DEPARTMENT OF STATE

[Public Notice 4464]

International Joint Commission: Boundary Waters Treaty of 1909; Notice of Public Hearing and Invitation for Written Comment on Order of Approval for Duck Lake

In February 2003, the International Joint Commission (IJC) announced that it would review its Order of Approval governing the dykes surrounding Duck Lake, and operations inside Duck Lake, located on the Kootenay River in British Columbia. The IJC will hold a public hearing in Creston, British Columbia, on September 11, 2003, and invites written comment, to be received by October 15, 2003, before it makes any decisions about its Order for Duck Lake.

The IJC approved the construction of dykes encompassing Duck Lake in 1950 and within Duck Lake in 1970. It charged the International Kootenay Lake Board of Control with overseeing the Orders on behalf of the IJC. The dykes encompassing Duck Lake have the potential to increase water levels on the Kootenay River in the United States for certain rare floods, by about 4 or 5 inches (10-13 centimeters) at the international boundary and about half that amount at Bonners Ferry. The likelihood of such rare floods has been reduced by Duncan and Libby Dams. The Creston Valley Wildlife Management Authority operates gates and pumps that affect water levels within Duck Lake in accordance with the IJC's 1950 Order of Approval, as amended in 1956 and 1970.

Public concern has been raised over the effects of water levels management on bass, and a request has been made to transfer the management of Duck Lake water levels to local authorities. Given the public concerns, the 30-year period since the Order was last considered, and the reduced potential for transboundary effects, the Commission decided to review the Order of Approval for Duck Lake without prejudice to the end result.

More information, including an information paper about Duck Lake is available at http://www.ijc.org.

The International Joint Commission is an international organization established by the Boundary Waters Treaty of 1909 to prevent and resolve disputes over the use of waters shared by the United States and Canada. Its responsibilities include approving certain projects in one country that would increase the natural water levels in the other country, such as the dykes encompassing Duck Lake along the Kootenay River. If it approves the project, the IJC's Orders of Approval may specify certain conditions to protect the interests in both countries.

The public hearing will be held at the following time and place: Thursday, September 11, 2003, 7:30 p.m., Creston Valley Seniors Association Hall, 810 Canyon Street, Creston, British Columbia.

In addition to the public hearing, the International Joint Commission invites written comment on its Duck Lake Order of Approval. Written comments may be sent to one of the addresses below for receipt by October 15, 2003.

James Chandler, Acting Secretary, U.S. Section, International Joint Commission, 1250 23rd Street NW., Suite 100, Washington, DC 20037, Fax (202) 467-0746, E-mail commission @washington.ijc.org.

Murray Clamen, Secretary, Canadian Section, International Joint Commission, 234 Laurier Avenue West, 22nd Floor, Ottawa, ON K1P 6K6, Fax (613) 993-5583, E-mail commission @ottawa.ijc.org.

Dated: August 25, 2003.
James G. Chandler,
Acting Secretary, United States Section.

[FR Doc. 03-22150 Filed 8-28-03; 8:45 am]

BILLING CODE 4710-14-P